DEPARTMENT OF STATE

[Public Notice 6307]

U.S. National Commission for UNESCO Notice of Partially Closed Meeting

The U.S. National Commission for UNESCO will hold a meeting by conference call on Thursday, August 28, 2008, beginning at 11 a.m. Eastern Time. The open portion of the call should last approximately fifteen minutes and will address the UNESCO Associated Schools Project Network. Additional topic areas that relate to UNESCO may be discussed as needed. The Commission will accept brief oral comments from members of the public during the open portion of this conference call. The public comment period will be limited to approximately ten minutes in total with three minutes allowed per speaker. Members of the public who wish to present oral comments or listen to the conference call must make arrangements with the Executive Secretariat of the National Commission by August 26, 2008. The second portion of the teleconference meeting will be closed to the public to allow the Commission to discuss applications for the U.S. National Commission for UNESCO Laura W. Bush Traveling Fellowship, a fellowship funded through privately donated funds. This call will be closed pursuant to Section 10(d) of the Federal Advisory Committee Act and 5 U.S.C. 552b(c)(6) because it is likely to involve discussion of information of a personal nature regarding the relative merits of individual applicants where disclosure would constitute a clearly unwarranted invasion of personal privacy.

For more information contact Alex Zemek, Executive Director of the U.S. National Commission for UNESCO, Washington, DC 20037. Telephone: (202) 663-0026; Fax: (202) 663-0035; E-mail: DCUNESCO@state.gov.

Dated: August 7, 2008.
Alex Zemek,
Executive Director,U.S. National Commission for UNESCO, Department of State.

[FR Doc. E8-18843 Filed 8-13-08; 8:45 am]

BILLING CODE 4710-19-P